DEPARTMENT OF DEFENSE

Department of the Navy

32 CFR Part 726

[Docket ID: USN-2019-HQ-0004]

RIN 0703-AB16

Payments of Amounts Due Mentally Incompetent Members of the Naval Service

AGENCY: Department of the Navy, Department of Defense.

ACTION: Final rule.

SUMMARY: This final rule removes the Department of the Navy (DON) regulation concerning Payments of Amounts Due Mentally Incompetent Members of the Naval Service. Removal is appropriate because the regulation does not affect how the public engages the DON regarding these payments and does not place obligations on the public. The Department of Defense, the Secretary of the Navy, and the Bureau of Medicine and Surgery (BUMED) issue internal instructions that establish requirements for competency boards, the process for determining mental incompetence, and the process and requirements for making payments within the parameters established by many controlling statutes. These internal instructions do not require publication in the Code of Federal Regulations.

DATES: This rule is effective on April 24, 2019.

FOR FURTHER INFORMATION CONTACT: CDR Meredith Werner at 703-614-7408.

SUPPLEMENTARY INFORMATION: Section 603 of Title 37, United States Code, requires the Service Secretaries to prescribe regulations to carry out Chapter 11 of Title 37, United States Code: Payments to Mentally Incompetent Persons. The Department of Defense publishes the process and requirements for making payments in Chapter 33 of Volume 7A and Chapter 16 of Volume 7B of the Financial Management Regulation (DoD 7000.14-R, available at https://comptroller .defense.gov/Portals/45/documents/fmr/Volume_07b.pdf), of March 2018; BUMED publishes requirements for competency boards in Chapter 18 of the Manual of the Medical Department (MANMED) (NAVMED P-117, available at https://www.med.navy.mil/directives/Documents/NAVMED%20P-117%20%28MANMED%29/MMDChapter18.pdf), of January 10, 2005; and the Secretary of the Navy (SECNAV) publishes the process for determining mental competency (SECNAV Instruction 1850.4E, available at https://www.secnav.navy.mil/mra/CORB/Documents/SECNAVINST-1850-4E.PDF), of April 30, 2002.

32 CFR part 726 was last updated on October 29, 2008.

It has been determined that publication of this CFR part for public comment is impracticable, unnecessary, and contrary to the public interest since it is based upon removing internal content, and the ultimate statutory authority governing the payments of amounts due mentally incompetent members of the Naval service remains in effect in Chapter 11 of Title 37, United States Code.

This rule is not significant under Executive Order (E.O.) 12866, “Regulatory Planning and Review.” Therefore, E.O. 13771, “Reducing Regulation and Controlling Regulatory Costs” does not apply.

List of Subjects in 32 CFR Part 726

Administrative practice and procedure, Military personnel, Reporting and recordkeeping requirements, Trusts and trustees.

PART 726—[REMOVED]

Accordingly, by the authority of 5 U.S.C. 301, 32 CFR part 726 is removed.

Dated: April 19, 2019.
Meredith Steingold Werner,
Commander, Judge Advocate General's Corps, U.S. Navy, Federal Register Liaison Officer.

[FR Doc. 2019-08252 Filed 4-23-19; 8:45 am]

BILLING CODE 3810-FF-P